ENVIRONMENTAL PROTECTION AGENCY

[EPA-HQ-OPP-2017-0007; FRL-9965-42]

Pesticide Product Registration; Receipt of Applications for New Active Ingredients

AGENCY: Environmental Protection Agency (EPA).

ACTION: Notice.

SUMMARY: EPA has received applications to register pesticide products containing active ingredients not included in any currently registered pesticide products. Pursuant to the Federal Insecticide, Fungicide, and Rodenticide Act (FIFRA), EPA is hereby providing notice of receipt and opportunity to comment on these applications.

DATES: Comments must be received on or before October 16, 2017.

ADDRESSES: Submit your comments, identified by the Docket Identification (ID) Number and the File Symbol of interest as shown in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Robert McNally, Biopesticides and Pollution Prevention Division (7511P), main telephone number: (703) 305-7090; email address: BPPDFRNotices@epa.gov., Michael Goodis, Registration Division (7505P), main telephone number: (703) 305-7090; email address: RDFRNotices@epa.gov. The mailing address for each contact person is: Office of Pesticide Programs, Environmental Protection Agency, 1200 Pennsylvania Ave. NW., Washington, DC 20460-0001.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. Registration Applications

EPA has received applications to register pesticide products containing active ingredients not included in any currently registered pesticide products. Pursuant to the provisions of FIFRA section 3(c)(4) (7 U.S.C. 136a(c)(4)), EPA is hereby providing notice of receipt and opportunity to comment on these applications. Notice of receipt of these applications does not imply a decision by the Agency on these applications:

1. File Symbol: 2217-RNEA. Docket ID number: EPA-HQ-OPP-2017-0246. Applicant: PBI/Gordon Corporation, 1217 West 12th Street, Kansas City, MO 64101. Product name: EH-1580 Consumer Weed and Feed. Active ingredient: herbicide—pyrimisulfan at 0.025% and penoxsulam at 0.025%. Proposed use: Turf. Contact: RD.

2. File Symbol: 2217-RNEE. Docket ID number: EPA-HQ-OPP-2017-0246. Applicant: PBI/Gordon Corporation, 1217 West 12th Street, Kansas City, MO 64101. Product name: EH-1579 ORP Granule. Active ingredient: Herbicide—pyrimisulfan at 0.025% and penoxsulam at 0.025%. Proposed use: Turf. Contact: RD.

3. File Symbol: 2217-RNEG. Docket ID number: EPA-HQ-OPP-2017-0246. Applicant: PBI/Gordon Corporation, 1217 West 12th Street, Kansas City, MO 64101. Product name: EH-1580 ORP Weed and Feed. Active ingredient: Herbicide—pyrimisulfan at 0.025% and penoxsulam at 0.025%. Proposed use: Turf. Contact: RD.

4. File Symbol: 2217-RNEL. Docket ID number: EPA-HQ-OPP-2017-0246. Applicant: PBI/Gordon Corporation, 1217 West 12th Street, Kansas City, MO 64101. Product name: EH-1579 Consumer Granule. Active ingredient: Herbicide—pyrimisulfan at 0.025% and penoxsulam at 0.025%. Proposed use: Turf. Contact: RD.

5. File Symbols: 2217-RNER. Docket ID number: EPA-HQ-OPP-2017-0246. Applicant: PBI/Gordon Corporation, 1217 West 12th Street, Kansas City, MO 64101. Product names: EH-1566 Consumer Granule. Active ingredient: Herbicide—pyrimisulfan at 0.025%. Proposed use: Turf. Contact: RD.

6. File Symbol: 2217-RNET. Docket ID number: EPA-HQ-OPP-2017-0246. Applicant: PBI/Gordon Corporation, 1217 West 12th Street, Kansas City, MO 64101. Product name: Pyrimisulfan Technical. Active ingredient: Herbicide—pyrimisulfan at 99.5%. Proposed use: For formulation into end-use herbicides for use in turf. Contact: RD.

7. File Symbol: 2217-RNEU. Docket ID number: EPA-HQ-OPP-2017-0246. Applicant: PBI/Gordon Corporation, 1217 West 12th Street, Kansas City, MO 64101. Product name: EH-1566 ORP Granule. Active ingredient: Herbicide—pyrimisulfan at 0.025%. Proposed use: Turf. Contact: RD.

8. File Symbol: 91253-E. Docket ID number: EPA-HQ-OPP-2017-0296. Applicant: International Animal Health Products Pty. Ltd., 18 Healey Circuit, Huntingwood, New South Wales 2148 Australia (in care of SciReg, Inc., 12733 Director's Loop, Woodbridge, VA 22192). Product name: Livamol with Bioworma. Active ingredient: Nematicide—Duddingtonia flagrans strain IAH 1297 at 2.2%. Proposed use: Microbial pesticide that is fed to grazing animals, passes through into the manure, and controls nematode larvae in pastures. Contact: BPPD.

9. File Symbol: 91253-R. Docket ID number: EPA-HQ-OPP-2017-0296. Applicant: International Animal Health Products Pty. Ltd., 18 Healey Circuit, Huntingwood, New South Wales 2148 Australia (in care of SciReg, Inc., 12733 Director's Loop, Woodbridge, VA 22192). Product name: Bioworma. Active ingredient: Nematicide—Duddingtonia flagrans strain IAH 1297 at 34.6%. Proposed use: Microbial pesticide that is fed to grazing animals, passes through into the manure, and controls nematode larvae in pastures. Contact: BPPD.

Authority: 7 U.S.C. 136 et seq.

Dated: July 26, 2017.
Delores Barber,
Director, Information Technology and Resources Management Division, Office of Pesticide Programs.

[FR Doc. 2017-19694 Filed 9-14-17; 8:45 am]

BILLING CODE 6560-50-P